DEPARTMENT OF HEALTH AND HUMAN SERVICES

Centers for Medicare & Medicaid Services

42 CFR Parts 412, 413, and 495

[CMS-1716-CN]

RIN 0938-AT73

Medicare Program; Hospital Inpatient Prospective Payment Systems for Acute Care Hospitals and the Long-Term Care Hospital Prospective Payment System and Proposed Policy Changes and Fiscal Year 2020 Rates; Proposed Quality Reporting Requirements for Specific Providers; Medicare and Medicaid Promoting Interoperability Programs Proposed Requirements for Eligible Hospitals and Critical Access Hospitals; Correction

AGENCY: Centers for Medicare & Medicaid Services (CMS), HHS.

ACTION: Proposed rule; correction.

SUMMARY: This document corrects technical errors in the proposed rule that appeared in the May 3, 2019, issue of the Federal Register entitled “Medicare Program; Hospital Inpatient Prospective Payment Systems for Acute Care Hospitals and the Long-Term Care Hospital Prospective Payment System and Proposed Policy Changes and Fiscal Year 2020 Rates; Proposed Quality Reporting Requirements for Specific Providers; Medicare and Medicaid Promoting Interoperability Programs Proposed Requirements for Eligible Hospitals and Critical Access Hospitals.”

DATES: June 18, 2019.

FOR FURTHER INFORMATION CONTACT:

Erin Patton, (410) 786-2437.

Dylan Podson, (410)-786-5031.

SUPPLEMENTARY INFORMATION:

I. Background

In FR Doc. 2019-08330 of May 3, 2019 (84 FR 19158), there were a number of technical errors that are identified and corrected in the Correction of Errors section of this correcting document.

II. Summary of Errors

A. Summary of Errors in the Preamble

On page 19428, in our discussion of the proposed revisions to the definition of the base operating DRG payment amount for purposes of the Hospital Readmissions Reduction Program, we made an error in describing our policy for the treatment of the difference between the hospital-specific payment rate and the Federal payment rate for purposes of calculating the base operating DRG payment amount with respect to a Medicare-dependent, small rural hospital that receives payments under § 412.108(c) or a sole community hospital that receives payments under § 412.92(d). We are correcting this language to reflect our current policy that the base operating DRG payment amount includes the difference between the hospital-specific payment rate and the Federal payment rate for a Medicare-dependent, small rural hospital and does not include the difference between the hospital-specific payment rate and the Federal payment rate for a sole community hospital. We also made an error in our citation to the applicable statutory provision. We erroneously cited to section 1886(q)(2)(b)(i) instead of section 1886(q)(2)(B)(i) of the Act.

On pages 19568, in our discussion of the Medicare and Medicaid Promoting Interoperability Programs, we made an error in a web link.

B. Summary of Errors in the Regulations Text

On page 19581, in our proposed amendments to the definition of the base operating DRG payment amount for purposes of the Hospital Readmissions Reduction Program, we made an error in describing our current policy for determining the base operating DRG payment amount by stating that with respect to a sole community hospital that receives payments under § 412.92(d) or a Medicare-dependent, small rural hospital that receives payments under § 412.108(c), this amount includes the difference between the hospital-specific payment rate and the Federal payment rate determined under subpart D of this part. We are correcting this language to reflect our current policy, which is that the base operating DRG payment amount for a sole community hospital that receives payments under § 412.92(d) does not include the difference between the hospital-specific payment rate and the Federal payment rate determined under subpart D of this part while the base operating DRG payment amount for a Medicare-dependent, small rural hospital that receives payments under § 412.108(c) does include the difference between the hospital-specific payment rate and the Federal payment rate determined under subpart D of this part.

IV. Correction of Errors

In FR Doc. 2019-08330 of May 3, 2019 (84 FR 19158), we make the following corrections:

A. Errors in the Preamble

1. On page 19428, first column, last partial paragraph, lines 10 through 13, the phrase “amount also includes the difference between the hospital-specific payment rate and the Federal payment rate determined under the subpart.” is corrected to read “amount also includes the difference between the hospital-specific payment rate and the Federal payment rate determined under the subpart for a Medicare-dependent, small rural hospital that receives payments under § 412.108(c) and does not include the difference between the hospital-specific payment rate and the Federal payment rate determined under the subpart for a sole community hospital that receives payment under § 412.92(d).”

2. On page 19428, second column, first partial paragraph, lines 1 through 4, the phrase “1886(q)(2)(b)(i) of the Act, because the regulatory text was not updated following the expiration of the FY 2013 changes.” is corrected to read “1886(q)(2)(B)(i) of the Act by specifying the differential treatment following the expiration of the special treatment for Medicare-dependent, small rural hospitals for FY 2013 in the statute.”

3. On page 19568, third column, last paragraph (footnote 830), lines 1 and 2, the hyperlink “https://www.healthit.gov/sites/default/files/onc_pghd_final_white_paper.pdf.%95” is corrected to read “https://www.healthit.gov/sites/default/files/onc_pghd_final_white_paper.pdf”.

B. Errors in the Regulations Text

§ 412.152 [Corrected]

4. On page 19581, third column, first paragraph (definition of Base operating DRG payment amount), lines 17 through 26, “With respect to a sole community hospital that receives payments under § 412.92(d) or a Medicare-dependent, small rural hospital that receives payments under § 412.108(c), this amount also includes the difference between the hospital-specific payment rate and the Federal payment rate determined under subpart D of this part. ” is corrected to read “With respect to a sole community hospital that receives payments under § 412.92(d) this amount also does not include the difference between the hospital-specific payment rate and the Federal payment rate determined under subpart D of this part. With respect to a Medicare-dependent, small rural hospital that receives payments under § 412.108(c), this amount includes the difference between the hospital-specific payment rate and the Federal payment rate determined under subpart D of this part.”

Dated: June 12, 2019.
Ann C. Agnew,
Executive Secretary to the Department, Department of Health and Human Services.

[FR Doc. 2019-12906 Filed 6-17-19; 8:45 am]

BILLING CODE 4120-01-P